DEPARTMENT OF COMMERCE

International Trade Administration

[A-337-804]

Certain Preserved Mushrooms from Chile: Final Rescission of Antidumping Duty Administrative Review

AGENCY: Import Administration, International Trade Administration, Department of Commerce.

ACTION: Notice of Final Rescission of Antidumping Duty Administrative Review.

SUMMARY: In response to a timely request from the petitioners ¹, on January 26, 2000, the Department of Commerce published a notice of initiation of an administrative review of the antidumping duty order on certain preserved mushrooms from Chile with respect to Nature's Farm Products (Chile) S.A. and Ravine Foods Inc., covering the period August 5, 1998, through November 30, 1999. See Initiation of Antidumping and Countervailing Duty Administrative Reviews, 65 FR 42280 (January 26, 2000). The Department of Commerce is now rescinding this review as a result of the absence of imports and entries into the United States of the subject merchandise during the period of review.

¹ The petitioners are the Coalition for Fair Preserved Mushroom Trade which includes the American Mushroom Institute and the following domestic companies: L.K. Bowman, Inc., Nottingham, PA; Modern Mushrooms Farms, Inc., Toughkernamon, PA; Monterrey Mushrooms, Inc., Watsonville, CA; Mount Laurel Canning Corp., Temple, PA; Mushrooms Canning Company, Kennett Square, PA; Southwood Farms, Hockessin, DE; Sunny Dell Foods, Inc., Oxford, PA; United Canning Corp., North Lima, OH.

EFFECTIVE DATE: July 13, 2000.

FOR FURTHER INFORMATION CONTACT: David J. Goldberger or Katherine Johnson, Import Administration, International Trade Administration, U.S. Department of Commerce, 14th Street and Constitution Avenue, NW., Washington, DC 20230; telephone: (202) 482-4136 or (202) 482-4929, respectively.

SUPPLEMENTARY INFORMATION:

Applicable Statute

Unless otherwise indicated, all citations to the Tariff Act of 1930, as amended (“the Act”), are references to the provisions effective January 1, 1995, the effective date of the amendments made to the Act by the Uruguay Round Agreements Act. In addition, unless otherwise indicated, all citations to the Department of Commerce's regulations are to 19 CFR part 351 (1999).

Background

On January 21, 2000, the Department (“the Department”) issued the antidumping questionnaire to Nature's Farm Products (Chile) S.A. (“NFP”) via its U.S. parent, Nature Farm Products, Inc., and Ravine Foods Inc. (“Ravine”), a Canadian company. On January 26, 2000, the Department published a notice of initiation of an administrative review of the antidumping duty order on certain preserved mushrooms from Chile with respect to NFP and Ravine (65 FR 4228). On February 28, 2000, Ravine advised the Department that the company did not export the subject merchandise to the United States during the period of review (“POR”).

To confirm the accuracy of Ravine's claim, the Department performed a customs query on entries of the subject merchandise exported from Chile and Canada. In so doing, the Department examined U.S. Customs import statistics, and found no imports of the subject merchandise by Ravine, NFP, or any other company from Chile to the United States during the POR. We also found no imports of the subject merchandise from Canada. See March 14, 2000, Memorandum, “U.S. Customs Data on Imports of the Subject Merchandise,” from David J. Goldberger to Irene Darzenta Tzafolias.

On May 26, 2000, the Department published a notice of preliminary rescission of antidumping duty administrative review on certain preserved mushrooms from Chile with respect to NFP and Ravine (65 FR 34147). In light of its no shipments finding, the Department preliminarily determined that there was no basis for applying facts available in this instance with regard to NFP, which did not respond to our questionnaire. No party commented on the Department's preliminary findings.

Scope of the Review

The products covered by this review are certain preserved mushrooms whether imported whole, sliced, diced, or as stems and pieces. The preserved mushrooms covered under this review are the species Agaricus bisporus and Agaricus bitorquis. “Preserved mushrooms” refer to mushrooms that have been prepared or preserved by cleaning, blanching, and sometimes slicing or cutting. These mushrooms are then packed and heated in containers including but not limited to cans or glass jars in a suitable liquid medium, including but not limited to water, brine, butter or butter sauce. Preserved mushrooms may be imported whole, sliced, diced, or as stems and pieces. Included within the scope of this review are “brined” mushrooms, which are presalted and packed in a heavy salt solution to provisionally preserve them for further processing.

Excluded from the scope of this review are the following: (1) All other species of mushroom, including straw mushrooms; (2) all fresh and chilled mushrooms, including “refrigerated” or “quick blanched mushrooms'; (3) dried mushrooms; (4) frozen mushrooms; and (5) “marinated,” “acidified” or “pickled” mushrooms, which are prepared or preserved by means of vinegar or acetic acid, but may contain oil or other additives.

The merchandise subject to this review is classifiable under subheadings 2003.1000.27, 2003.1000.31, 2003.1000.37, 2003.1000.43, 2003.1000.47.2003.1000.53, and 0711.90.4000 of the Harmonized Tariff Schedule of the United States (“HTS”). Although the HTS subheadings are provided for convenience and Customs purposes, our written description of the scope of this review is dispositive.

Final Rescission of Review

Pursuant to 19 CFR 351.213(d)(3), the Department may rescind an administrative review, in whole or only with respect to a particular exporter or producer, if the Secretary concludes that, during the period covered by the review, there were no entries, exports, or sales of the subject merchandise. In this case, the available evidence indicates that there were no entries of certain preserved mushrooms produced or exported from Chile during the POR. We also note, however, that our normal practice under section 776(b) of the Act is to use adverse facts available when a respondent (here, NFP) has not responded to our questionnaire and thus has failed to cooperate to the best of its ability. Given that the same dumping rate would apply to NFP regardless of whether we applied adverse facts available or simply rescinded this review, in the unusual circumstances of this case we have decided simply to rescind this review as to both Ravine and NFP in accordance with 19 CFR 351.213(d)(3).

The cash-deposit rate for NFP and “All Other” producers/exporters of the subject merchandise will remain at 148.51 percent, the rate established in the most recent segment of this proceeding for these producers/exporters (63 FR 56613, October 22, 1998), which is also the highest rate on the record of any segment of the proceeding.

This notice is published in accordance with 19 CFR 351.213(d)(4).

Richard W. Moreland,
Deputy Assistant Secretary for Import Administration.

[FR Doc. 00-17761 Filed 7-12-00; 8:45 am]

BILLING CODE 3510-DS-P